SCIENCE AND TECHNOLOGY POLICY OFFICE

Orbital Debris Research and Development Plan

AGENCY: Office of Science and Technology Policy (OSTP).

ACTION: Notice of Request for Comment (RFC).

SUMMARY: On behalf of the National Science and Technology Council (NSTC), Committee on Homeland and National Security, Subcommittee on Space Weather Security and Hazards, Interagency Working Group on Orbital Debris Research and Development, OSTP requests input from all interested parties on the Orbital Debris Research and Development (R&D) Plan, which will inform the Orbital Debris Research and Development Interagency Working Group's activity for building out an implementation plan.

DATES: Responses are due by December 31, 2021.

ADDRESSES: Interested individuals and organizations should submit comments electronically to Ezinne Uzo-Okoro at OrbitalDebris@ostp.eop.gov. Further information may be received by calling 202-456-4444.

Instructions: Response to this RFC is voluntary. Respondents need not reply to all questions listed. Each individual or institution is requested to submit only one response. OSTP and/or NSTC may post responses to this RFC, without change, on a Federal website. OSTP, therefore, requests that no business proprietary information, copyrighted information, or personally identifiable information be submitted in response to this RFC. Please note that the United States Government will not pay for response preparation, or for the use of any information contained in the response.

SUPPLEMENTARY INFORMATION: The Orbital Debris Interagency Working Group has commenced the development of an implementation plan to be released in 2022. Pursuant to 42 U.S.C. 6622, OSTP is soliciting public input through this RFC to obtain recommendations from a wide range of stakeholders, including representatives from diverse industries, academia, other relevant organizations and institutions, and the general public. The public input provided in response to this RFC will inform OSTP and NSTC as they work with Federal agencies and other stakeholders to develop an Orbital Debris implementation plan. This implementation plan is building off the R&D plan published in January 2021.

Implementing this plan will close critical gaps in the knowledge and capabilities needed to meet current and growing challenges of orbital debris risk management. The R&D Plan organizes the orbital debris challenges and research topical areas into three main areas of orbital debris research and development: limiting debris generation by design, tracking and characterizing debris, and remediating or repurposing debris. OSTP seeks public input from the R&D community on what R&D areas are priorities for government-sponsored initiatives/coordination, the roles of academia, nonprofit, and industry actors in addressing these actions, and potential avenues for coordination between actors across public and private sectors.

Questions To Inform Development of the Plan

OSTP seeks responses to the following questions to improve government coordination and to provide long-term guidance for Federal programs and activities in support of the United States Orbital Debris Research & Development implementation plan.

(1) The extent to which progress in the R&D topical areas identified in the Orbital Debris R&D Plan will address the orbital debris challenges. What, if any, R&D areas are missing?

(2) Among the topic areas listed in the R&D Plan, what are the highest priority R&D areas (up to five) for making progress in addressing the challenges posed by orbital debris to the space environment?

(3) What near-term actions can be taken by the Federal government to make progress towards high priority R&D areas? How would these specific actions address the orbital debris challenges in the near term?

(4) What R&D activities would be most valuable in the long-term or would be the most transformative to addressing orbital debris challenges?

(5) What are the opportunities to partner with entities outside the Federal government, nationally and internationally? What are the viable and potentially innovative mechanisms to partner most effectively?

Dated: November 1, 2021.
Stacy Murphy,
Operations Manager.

[FR Doc. 2021-24125 Filed 11-4-21; 8:45 am]

BILLING CODE 3271-F1-P